DEPARTMENT OF ENERGY

Federal Energy Regulatory Commission

18 CFR Part 388

[Docket No. RM02-8-000; Order No. 625]

Revised Fees for Record Requests; Final Rule

Issued April 26, 2002.

AGENCY: Federal Energy Regulatory Commission.

ACTION: Final rule.

SUMMARY: The Federal Energy Regulatory Commission is amending its regulations to increase the fee for hard copies of documents printed from the Federal Energy Regulatory Records Information System (FERRIS) from 15 to 20 cents per page. This change is necessary due to decreased volume and will enable the Commission to continue offering copying services to the public.

EFFECTIVE DATE: This final rule is effective immediately upon issuance.

FOR FURTHER INFORMATION CONTACT: Katherina Quijada-Cusack, Office of the Chief Information Officer, Federal Energy Regulatory Commission, 888 First Street, NE., Washington, DC 20426, (202) 208-1748, Katherina.Quijada-Cusack@ferc.gov.

SUPPLEMENTARY INFORMATION:

I. Introduction

The Federal Energy Regulatory Commission is amending Section 388.109 of its regulations to increase the fee for hard copies of documents available through its Public Reference Room in electronic form from 15 to 20 cents per page.

II. Background

The Commission makes public documents available for download through the Internet.¹ Until recently, this has been done primarily through the Commission's Records and Information Management System (RIMS). The Commission now is in the process of replacing RIMS and other records systems with the Federal Energy Regulatory Records Information System (FERRIS). FERRIS will provide improved functionality and reliability to members of the public seeking information about Commission proceedings and other matters.²

¹ 18 CFR 388.106.

² See 67 FR 10910 (Mar. 11, 2002).

Documents available electronically are also available to the public in hard copy. Currently, the Commission's regulations call for a charge of 15 cents per page for hard copies of documents that are available in electronic format.³ This rule will change the charge to 20 cents per page.

³ 18 CFR 388.109(a)(4)(i).

III. Discussion

Due to increased usage of the Internet by members of the public who wish to access public Commission documents, the Commission has seen a decreased demand for hard copies of electronically available documents. Because of the smaller volume, the Commission's Public Reference Room contractor, which was recently selected through a competed procurement as offering the best value among available firms, requires an increase in the copying charge for the service to continue to remain economically viable. Commission staff monitors printing statistics and has verified the contractor's need. The Commission does not believe the price increase will cause any hardship, particularly given the increasing reliance on electronic means for accessing documents. This final rule also deletes the reference to the Commission's Records and Information Management System (RIMS) and substitutes a reference to the new Federal Energy Regulatory Records Information System (FERRIS).

IV. Regulatory Flexibility Act Certification

The Regulatory Flexibility Act (“RFA”) requires agencies to prepare certain statements, descriptions, and analyses of proposed rules that will have a significant economic impact on a substantial number of small entities.⁴ The Commission is not required to make such an analysis if a rule would not have such an effect.

⁴ U.S.C. 601-612.

The Commission does not believe that this rule would have such an impact on small entities. Charges for hard copies of documents remain modest and the Commission considers it very unlikely that any person or entity would require such a large volume of documents for this increase to have a significant impact.

V. Environmental Statement

Issuance of this Final Rule does not represent a major federal action having a significant adverse effect on the human environment under the Commission's regulations implementing the National Environmental Policy Act.⁵ Part 380 of the Commission's regulations lists a number of exemptions where an Environmental Analysis or Environmental Impact Statement will not be done. Included are exemptions for procedural, ministerial or internal administrative actions, and for information gathering, analysis and dissemination.⁶ This rulemaking is exempt under those provisions.

⁵ Order No. 486, 52 FR 47897 (Dec. 17, 1987); FERC Stats. & Regs. [Regulations Preambles 1986-1990] ¶ 30,783 (Dec. 10, 1984) (codified at 18 CFR part 380).

⁶ 18 CFR 380.4(1) and (5).

VI. Information Collection Statement

The Office of Management and Budget's (“OMB's”) regulations require that OMB approve certain information collection requirements imposed by agency rule.⁷ This Final Rule contains no information reporting requirements, and is not subject to OMB approval.

⁷ 5 CFR part 1320.

VII. Document Availability

In addition to publishing the full text of this document in the Federal Register, the Commission provides all interested persons an opportunity to view and/or print the contents of this document via the Internet through FERC's Home Page (http://www.ferc.gov) and in FERC's Public Reference Room during normal business hours (8:30 a.m. to 5:00 p.m. Eastern time) at 888 First Street, NE., Room 2A, Washington, DC 20426.

From FERC's Home Page on the Internet, this information is available in both the Federal Energy Regulatory Records Information System (FERRIS) and the Records and Information Management System (RIMS).

—FERRIS provides access to the texts of formal documents issued by the Commission since November 14, 1994.

—FERRIS can be accessed using the FERRIS link or the Energy Information Online icon. The full text of this document is available on FERRIS in ASCII and WordPerfect 8.0 format for viewing, printing, and/or downloading.

—RIMS contains images of documents submitted to and issued by the Commission after November 16, 1981. Documents from November 1995 to the present can be viewed and printed from FERC's Home Page using the RIMS link or the Energy Information Online icon. Descriptions of documents back to November 16, 1981, are also available from RIMS-on-the-Web; requests for copies of these and other older documents should be submitted to the Public Reference Room.

User assistance is available for RIMS, FERRIS, and the Website during normal business hours from our Help line at (202) 208-2222 (E-Mail to WebMaster@ferc.gov) or the Public Reference at (202) 208-1371 (E-Mail to public.referenceroom@ferc.gov).

During normal business hours, documents can also be viewed and/or printed in FERC's Public Reference Room, where RIMS, FERRIS, and the FERC Website are available. User assistance is also available.

VIII. Effective Date and Congressional Notification

This Final Rule will take effect immediately upon issuance. Pursuant to 5 U.S.C. 804(3)(A), agencies are not required to notify Congress of any Final Rule that is a rule of particular applicability, including a rule that approves or prescribes rates, services, corporate or financial structures, reorganizations, or accounting practices. The Commission finds that this Final Rule is covered by the exception. The only impact of the rule is to prescribe the rate that the Commission's Public Reference Room contractor can charge for hard copies of certain documents. It is therefore a rule of particular applicability prescribing a rate, and the provisions of 5 U.S.C. 801 regarding Congressional review of Final Rules do not apply.

The Commission is issuing this as a final rule without a period for public comment. Under 5 U.S.C. 553(b), notice and comment procedures are unnecessary where a rulemaking concerns only agency procedure and practice, or where the agency finds that notice and comment is unnecessary. This rule concerns only matters of agency procedure and will not significantly affect regulated entities or the general public. Therefore, the Commission finds notice and comment procedures to be unnecessary.

In addition, in accordance with 5 U.S.C. 553(d)(3), the Commission finds that good cause exists to make this Final Rule effective immediately upon issuance. The increase in copying charges is necessary to make it economically viable for the Commission's Public Reference Room to continue offering this service, and will have minimal impact upon the public.

List of Subjects in 18 CFR Part 388

Confidential business information, Freedom of information.

By the Commission.
Linwood A. Watson, Jr.,
Deputy Secretary.

In consideration of the foregoing, the Commission amends Part 388, Chapter I, Title 18, of the Code of Federal Regulations as follows:

PART 388—INFORMATION AND REQUESTS

1. The authority citation for part 388 continues to read as follows:

Authority: 5 U.S.C. 301-305, 551, 552 (as amended), 553-557; 42 U.S.C. 7101-7352.

2. In § 388.109, paragraph (a)(4)(i) is revised to read as follows:

* * * * *

§ 388.109 Fees for record requests.

(a) * * *

(4)(i) The public may purchase hard copies of documents available in electronic form from the Commission's Federal Energy Regulatory Records Information System (FERRIS) for 20 cents per page.

[FR Doc. 02-10808 Filed 5-1-02; 8:45 am]

BILLING CODE 6717-01-P